DEPARTMENT OF ENERGY

Draft Supplemental Environmental Impact Statement for the Long-Term Management and Storage of Elemental Mercury

AGENCY: Department of Energy (DOE).

ACTION: Notice of Availability.

SUMMARY: The Department of Energy (DOE) announces the availability of the Draft Long-Term Management and Storage of Elemental Mercury Supplemental Environmental Impact Statement (Mercury Storage SEIS, DOE/EIS-0423-S1) for public comment. As required by the Mercury Export Ban Act of 2008 (hereafter referred to as “the Act”), DOE plans to identify a facility or facilities for the long-term management and storage of elemental mercury generated in the United States (U.S.) To this end, DOE issued the Final Environmental Impact Statement for the Long-Term Management and Storage of Elemental Mercury (Mercury Storage EIS, DOE/EIS-0423, January 2011) to analyze reasonable alternatives, in accordance with the National Environmental Policy Act (NEPA), for locating and developing such a facility. Subsequently, DOE identified three additional, reasonable alternative locations in the vicinity of its Waste Isolation Pilot Plant (WIPP) in Carlsbad, NM. On June 5, 2012, DOE announced its intent to prepare a supplement to the Mercury Storage EIS and held a 30-day public scoping period. This Draft Mercury Storage Supplemental EIS (Draft Mercury Storage SEIS or Draft SEIS) considered all comments received during the public scoping period.

DATES: DOE invites public comment on this Draft Mercury Storage SEIS during a 45-day public coment period commencing with the date of publication of this Notice in the Federal Register, and ending on June 3, 2013. In preparing the Mercury Storage SEIS, DOE will consider all comments received or postmarked by that date. Comments received after that date will be considered to the extent practicable.

ADDRESSES: DOE will hold two public hearings during the public comment period. The dates, times and locations of the public hearings are as follows.

May 7, 2013

Open house 5:00 p.m.—6:00 p.m.

Public hearing 6:00 p.m.—9:00 p.m.

Skeen-Whitlock Building Auditorium

DOE, Carlsbad Field Office

4021 National Parks Highway

Carlsbad, New Mexico 88220

May 9, 2013

Open house 5:00 p.m.—6:00 p.m.

Public hearing 6:00 p.m.—9:00 p.m.

Crowne Plaza Albuquerque Hotel

1901 University Blvd. NE

Albuquerque, New Mexico 87102.

Written comments not submitted during the public hearings may be mailed to:

Mr. David Levenstein, Document Manager, Office of Environmental Compliance (EM-11), U.S. Department of Energy, Post Office Box 2612, Germantown, Maryland 20874

Written comments may also be submitted via the Draft Mercury Storage EIS Web site at http://mercurystorageeis.com/.

FOR FURTHER INFORMATION CONTACT: To request further information about the Draft Mercury Storage SEIS or the Mercury Storage EIS, or to be placed on the distribution list for the Final Mercury Storage SEIS, use either of the methods (mail or Web site) listed under ADDRESSES. The Draft Mercury Storage SEIS contains a Summary, all chapters, appendices and other text within one volume, and includes a CD ROM of the full Draft Mercury Storage SEIS and the full 2011 Mercury Storage EIS.

For general information concerning DOE's NEPA process, please contact:

Ms. Carol M. Borgstrom, Director, Office of NEPA Policy and Compliance (GC-54), U.S. Department of Energy, 1000 Independence Avenue SW., Washington, DC 20585. Telephone: (202) 586-4600, by fax at (202) 586-7031, by email at askNEPA@hq.doe.gov or leave a message at 1-800-472-2756. The Draft Mercury Storage SEIS is available on the Internet at http://www.energy.gov/NEPA/ and on the project Web site at http://mercurystorageeis.com/.

SUPPLEMENTARY INFORMATION:

Background

The Mercury Export Ban Act of 2008 (Pub. L. 110-414) amends the Toxic Substances Control Act (TSCA) (15 U.S.C. 2605(f)) to prohibit the sale, distribution, or transfer by Federal agencies to any other Federal agency, any state or local government agency, or any private individual or entity, of any elemental mercury under the control or jurisdiction of a Federal agency (with certain limited exceptions). It also amends TSCA (15 U.S.C. 2611(c)) to prohibit the export of elemental mercury from the U.S. effective January 1, 2013 (subject to certain essential use exemptions). Section 5 of the Act, Long-Term Storage, amends the Resource Conservation and Recovery Act (RCRA, 42 U.S.C. 6939f) and directs DOE to designate a facility or facilities for the long-term management and storage of elemental mercury generated within the U.S.

To evaluate the range of reasonable alternatives for siting, constructing and operating a facility or facilities to meet its obligations under the Act, DOE prepared the Mercury Storage EIS in accordance with NEPA and its implementing regulations (40 CFR parts 1500-1508 and 10 CFR part 1021) and issued the Mercury Storage EIS in January 2011 (76 FR 5145). The Mercury Storage EIS and related NEPA documents are available at the Web sites listed under ADDRESSES. DOE estimated that up to approximately 10,000 metric tons of elemental mercury would need to be managed and stored at the DOE facility during the 40-year period of analysis. These estimates do not include approximately 4,400 metric tons of elemental mercury that the Department of Defense (DOD) stores at its facility in Hawthorne, Nevada.

Purpose and Need for Action

DOE's purpose and need for action remains unchanged from the 2011 Mercury Storage EIS. That is, DOE needs to designate a facility or facilities for the long-term management and storage of elemental mercury generated within the U.S., as required by the Act.

Proposed Action

As also stated in the 2011 Mercury Storage EIS, DOE proposes to construct one or more new facilities and/or select one or more existing facilities (including modification as needed) for the long-term management and storage of elemental mercury in accordance with the Act. Facilities to be constructed as well as existing or modified facilities must comply with applicable requirements of section 5(d) of the Act, Management Standards for a Facility, including the requirements of the Solid Waste Disposal Act as amended by the Resource Conservation and Recovery Act (42 U.S.C. 6901 et seq.), and other permitting requirements.

Proposed Alternatives

The January 2011 Mercury Storage EIS evaluated seven candidate sites for the facility or facilities, as well as a No Action Alternative as required under NEPA. The candidate sites are: DOE Grand Junction Disposal site near Grand Junction, Colorado; DOE Hanford site near Richland, Washington; Hawthorne Army Depot near Hawthorne, Nevada; DOE Idaho National Laboratory near Idaho Falls, Idaho (2 locations); DOE Kansas City Plant in Kansas City, Missouri; DOE Savannah River Site near Aiken, South Carolina; and Waste Control Specialists, LLC, site near Andrews, Texas.

Since publication of the 2011 Mercury Storage EIS, DOE has reconsidered the range of reasonable alternatives evaluated in that EIS and on June 5, 2012, DOE announced its intent to prepare a supplement to the Mercury Storage EIS (77 FR 33204). DOE held two public meetings during a 30-day public scoping period and considered all comments received during that period in preparing this Draft SEIS.

The scope of this Draft Mercury Storage SEIS includes three locations for a long-term mercury storage facility at or near the WIPP site, which DOE operates for disposal of defense transuranic waste. The additional locations evaluated in the Draft Mercury Storage SEIS are in: Section 20, Township 22 South, Range 31 East within the land subject to the WIPP Land Withdrawal Act (Pub. L. 102-579) as amended; Section 10, Township 22 South, Range 31 East, in the vicinity of WIPP, but outside of the lands withdrawn by the WIPP Land Withdrawal Act; and Section 35, Township 22 South, Range 31 East, also outside of the lands withdrawn by the WIPP Land Withdrawal Act. Each of these locations is suitable for an above-ground storage facility and can take advantage of existing roads and other infrastructure.

DOE identified the Waste Control Specialists, LLC location near Andrews, Texas, as the Preferred Alternative in the 2011 Mercury Storage EIS. DOE has not changed its preferred alternative in the Draft Mercury Storage SEIS; however, the preferred alternative may or may not change as a result of public comment on this draft and further analysis in completing the Final Mercury Storage SEIS.

Among the potential health and environmental impacts evaluated in the Draft Mercury Storage SEIS is an evaluation of the potential cumulative impacts of constructing and operating a facility for long-term management and storage of elemental mercury with the ongoing and planned operations of WIPP for disposal of defense transuranic waste. The Draft Mercury Storage SEIS also considers the potential disposal of greater-than-Class C waste (Draft Environmental Impact Statement for the Disposal of Greater-Than-Class C (GTCC) Low-level Radioactive Waste and GTCC-Like Waste (DOE/EIS-0375, February 2011)), which included two separately identified locations at WIPP and the WIPP vicinity.

Public Participation in the SEIS Process

At each public hearing, DOE representatives will be available during an open house to greet stakeholders and review presentational materials. Participants wishing to speak during each public hearing will be asked to register and will be given 10 minutes to speak, in the order in which participants have signed up. Once all those who wish to speak have had an opportunity to do so, participants will be given additional time until time for the public hearings to conclude. A court reporter will record the proceedings at each public hearing.

DOE invites Federal agencies, state, local, and tribal governments, and the general public to comment on the Draft Mercury Storage SEIS during the public comment period. DOE will consider all public comments on the Draft SEIS equally in preparing the Final Mercury Storage SEIS. Any comments received after the deadline will be considered to the extent practicable.

Issued in Washington, DC, on April 16, 2013.
Mark Gilbertson,
Deputy Assistant Secretary for Site Restoration.

[FR Doc. 2013-09291 Filed 4-18-13; 8:45 am]

BILLING CODE 6450-01-P